DEPARTMENT OF COMMERCE

National Oceanic and Atmospheric Administration

50 CFR Part 648

[Docket No. 220711-0151; RTID 0648-XC947]

Fisheries of the Northeastern United States; Northeast Multispecies Fishery; White Hake Trimester Total Allowable Catch Area Closure for the Common Pool Fishery

AGENCY: National Marine Fisheries Service (NMFS), National Oceanic and Atmospheric Administration (NOAA), Commerce.

ACTION: Temporary rule; area closure.

SUMMARY: This action closes the White Hake Trimester Total Allowable Catch Area to Northeast multispecies common pool vessels fishing with trawl gear, sink gillnet gear, and longline/hook gear, except for Handgear A and B permitted vessels using handgear or tub trawl, through April 30, 2023. The closure is required because the common pool fishery is projected to have caught over 90 percent of its Trimester 3 quota for white hake. This closure is intended to prevent an overage of the common pool's quota for this stock.

DATES: This action is effective April 18, 2023, through April 30, 2023.

FOR FURTHER INFORMATION CONTACT: Spencer Talmage, Fishery Policy Analyst, 978-281-9232.

SUPPLEMENTARY INFORMATION: Federal regulations at § 648.82(n)(2)(ii) require closure of the common pool Trimester Total Allowable Catch (TAC) Area for a stock when 90 percent of the Trimester TAC is projected to be caught. The closure applies to all common pool vessels fishing with gear capable of catching that stock, and remains in effect for the remainder of the trimester. During the closure, affected common pool vessels may not fish for, harvest, possess, or land regulated multispecies or ocean pout in or from the Trimester TAC Area for the stock.

The Trimester 3 TAC for white hake is 17,857 lb (8.2 mt). Catch data (including landings and discards) indicate that the common pool fishery caught 9,700.3 lb (4.4 mt) of white hake, or 54.3 percent of the Trimester 3 TAC, through March 21, 2023. Based on remaining quota, recent catch rates, and historical participation in the fishery, NMFS projects that by April 15, 2023, the common pool achieved 90 percent of the Trimester 3 TAC for white hake.

Effective April 18, 2023, the White Hake Trimester TAC Area is closed for the remainder of Trimester 3, through April 30, 2023. The White Hake Trimester TAC Area consists of statistical areas, 513, 514, 515, 521, and 522. During the closure, common pool vessels fishing with trawl gear, sink gillnet gear, and longline/hook gear, except for Handgear A and B permitted vessels using handgear or tub trawl, may not fish for, harvest, possess, or land regulated multispecies or ocean pout in or from this area. The area reopens at the beginning of Trimester 1 of fishing year 2023 on May 1, 2023.

If a vessel declared its trip through the Vessel Monitoring System (VMS) or the interactive voice response system, and crossed the VMS demarcation line prior to April 18, 2023, it may complete its trip within the White Hake Trimester TAC Area.

If the common pool fishery exceeds its annual sub-Allowable Catch Limit (sub-ACL) for a stock in the 2022 fishing year, the overage must be deducted from the common pool's sub-ACL for that stock for fishing year 2023. The fishing year 2022 sub-Allowable Catch Limit for white hake is 44,313 lb (20.1 mt). NMFS estimates that the common pool has caught 35,937 lb (16.3 mt) so far in fishing year 2022.

Weekly quota monitoring reports for the common pool fishery are on the Greater Atlantic Regional Fisheries Office website at: https://www.greateratlantic.fisheries.noaa.gov/ro/fso/reports/h/nemultispecies.html. NMFS will continue to monitor common pool catch through vessel trip reports, dealer-reported landings, VMS catch reports, and other available information and, if necessary, will make additional adjustments to common pool management measures.

Classification

This action is required by 50 CFR part 648 and is exempt from review under Executive Order 12866. The Assistant Administrator for Fisheries, NOAA, finds good cause pursuant to 5 U.S.C. 553(b)(B) and 5 U.S.C. 553(d)(3) to waive prior notice and the opportunity for public comment and the 30-day delayed effectiveness period because it would be impracticable and contrary to the public interest.

Regulations require the closure of a trimester TAC area to the common pool fishery when 90 percent of the Trimester TAC for a stock has been caught. Updated catch information through March 21, 2023, only recently became available indicating that the common pool fishery is projected to have caught 90 percent of its Trimester 3 TAC for white hake. The time necessary to provide for prior notice and comment, and a 30-day delay in effectiveness, would prevent the immediate closure of the White Hake Trimester TAC Area. This would be contrary to the regulatory requirement and would increase the likelihood that the common pool fishery would exceed its annual quota of white hake. Fishermen expect these closures to occur in a timely way to prevent overages and their payback requirements. Any overage of the annual quota could be detrimental to this fish stock. Also, any overage would be deducted from common pool's quota for the next fishing year, which could cause negative economic impacts to the common pool fishery due to less catch being available to fishery participants. This could undermine conservation and management objectives of the Northeast Multispecies Fishery Management Plan.

Authority: 16 U.S.C. 1801 et seq.

Dated: April 18, 2023.
Kelly Denit,
Director, Office of Sustainable Fisheries, National Marine Fisheries Service.

[FR Doc. 2023-08473 Filed 4-18-23; 4:15 pm]

BILLING CODE 3510-22-P